DEPARTMENT OF COMMERCE

International Trade Administration

U.S. Smart Grid Solutions Toolkit

AGENCY: International Trade Administration, U.S. Department of Commerce.

ACTION: Notice and request for public comment.

SUMMARY: The U.S. Department of Commerce announces the development of a toolkit to promote the deployment of U.S. smart grid technologies and services to be launched in FY2017. Through this Notice, the Department of Commerce seeks broad input from all interested stakeholders regarding the most frequently requested “use cases” by electric utilities for inclusion in a web-based U.S. Smart Grid Solutions Toolkit. The U.S. Smart Grid Solutions Toolkit (“Toolkit”) is intended to be used by foreign energy officials and foreign end-users of smart grid technologies. The Toolkit will outline U.S. approaches to a series of electric utility use cases and highlight participating U.S. vendors of relevant U.S. smart grid technologies and services. The Toolkit will support the President's National Export Initiative by fostering export opportunities for the U.S. energy industry.

DATES: Written comments must be received on or before 4:00 p.m. Eastern Daylight Time (EDT) on October 1, 2016.

ADDRESSES: Written comments by be submitted by email to Victoria.Gunderson@trade.gov. Comments submitted by email should be machine-readable and should not be copy protected. Written comments should include contact information for the submitter including name, email, and phone number. Written comments also may be submitted by mail to Victoria Gunderson, Office of Energy & Environmental Industries, Room 4053, U.S. Department of Commerce, 1401 Constitution Avenue NW., Washington, DC 20230.

FOR FURTHER INFORMATION CONTACT: Victoria Gunderson, Office of Energy & Environmental Industries, Room 4053, U.S. Department of Commerce, 1401 Constitution Avenue NW., Washington, DC 20230; phone 202-482-7890; fax 202-482-5665; email Victoria.Gunderson@trade.gov.

SUPPLEMENTARY INFORMATION: The development of the U.S. Smart Grid Solutions Toolkit requires the identification of three elements: (1) The most frequently requested use cases by global electric utilities; (2) a framework logic to outline the structure of the U.S. smart grid industry; and (3) U.S. vendors capable of supplying relevant goods and services to foreign buyers. At this stage of development of the Toolkit, and through this Notice, the Department of Commerce invites comment to identify the most commonly requested “use cases,” requested by electric utilities. Smart grid use cases should be limited to those applications that can be addressed by transmission, distribution, and energy storage related technologies and services. Examples of use cases include, but are not limited to, the following: Arbitrage, distribution upgrades due to wind/solar, curtailment minimization, frequency regulation, improved customer engagement, non-technical loss reduction, outage detection, and peak demand reduction.

Because input received will be publicly available upon request, businesses or individuals responding to this notice should not include any business confidential. Final selection of included use cases into the Toolkit will not be attributed.

A subsequent Federal Register notice will be issued at a later date for U.S. vendors capable of supplying relevant goods and services to foreign buyers to express interest and provide relevant information to be listed in the Toolkit.

Man Cho,
Deputy Director, Office of Energy and Environmental Industries.

[FR Doc. 2016-22487 Filed 9-16-16; 8:45 am]

BILLING CODE 3510-DR-P